DEPARTMENT OF DEFENSE

Office of the Secretary

Availability of the Fiscal Year 2008 TRICARE Management Activity (TMA) Services Contract Inventory

AGENCY: TRICARE Management Activity, Office of the Secretary of Defense, DoD.

ACTION: Notice of availability.

SUMMARY: In accordance with section 2330a of Title 10 United States Code as amended by the National Defense Authorization Act for Fiscal Year 2008 (NDAA 08) section 807, the Acting Chief Functional Officer for Acquisition Management and Support Directorate (AM&S), TRICARE Management Activity, in coordination with the Office of the Director, Defense Procurement and Acquisition Policy, Office of Strategic Sourcing (DPAP/SS) will make available to the public the first inventory of activities performed pursuant to contracts for services. The inventory will be published to the TMA Web site at the following location: http://www.tricare.mil/contracting/healthcare/default.aspx.

DATES: Inventory to be made publicly available not later than 30 days after the date on which the inventory was submitted to Congress. The TMA inventory was transmitted to Congress on September 29, 2009.

ADDRESSES: Send written comments or suggestions concerning the inventory to Bruce Mitterer, Acquisition Policy and Pricing Division, TRICARE Management Activity, 16401 East Centretech Parkway, Aurora, CO 80011.

FOR FURTHER INFORMATION CONTACT: Bruce Mitterer, (303) 676-3812 or e-mail at Bruce.Mitterer@tma.osd.mil.

SUPPLEMENTARY INFORMATION: NDAA 08, section 807 amends section 2330a of Title 10 United States Code to require annual inventories and reviews of activities performed on services contracts. TMA AM&S submitted the TMA Fiscal Year 2008 Services Contract Inventory to the Office of the DPAP/SS on August 28, 2009. Included with this inventory was a narrative that describes the methodology used to populate the Inventory data fields. The TMA inventory was transmitted to Congress on September 29, 2009. The posted inventory does not include the contract number, contractor identification, or other identifying information as this data could be used to disclose what may be considered contractor proprietary information.

Dated: October 26, 2009.
Patricia L. Toppings,
OSD Federal Register Liaison Officer, Department of Defense.

[FR Doc. E9-26186 Filed 10-29-09; 8:45 am]

BILLING CODE 5001-06-P